DEPARTMENT OF COMMERCE

National Oceanic and Atmospheric Administration

50 CFR Part 660

[Docket No. 020430101-2101-01; I.D. 080503B]

Fisheries Off West Coast States and in the Western Pacific; West Coast Salmon Fisheries; Inseason Action #2 - Adjustment of the Recreational Fishery from the Queets River to Cape Falcon, Oregon

AGENCY: National Marine Fisheries Service (NMFS), National Oceanic and Atmospheric Administration (NOAA), Commerce.

ACTION: Adjustment; request for comments.

SUMMARY: NMFS announces that the recreational fishery in the area from the Queets River to Cape Falcon, Oregon, was modified to open 7 days per week effective on Friday, July 26, 2003. On July 18, 2003, the Northwest Regional Administrator, NMFS (Regional Administrator), determined that available catch and effort data indicated that increasing the days open was warranted. This action was necessary to conform to the 2003 management goals.

DATES: Adjustment in the area from the Queets River to Cape Falcon, Oregon, effective 0001 hours local time (l.t.), July 26, 2003 through September 30, 2003. Comments will be accepted through September 3, 2003.

ADDRESSES: Comments on this action must be mailed to D. Robert Lohn, Regional Administrator, Northwest Region, NMFS, NOAA, 7600 Sand Point Way N.E., Bldg. 1, Seattle, WA 98115-0070; or faxed to 206-526-6376; or Rod McInnis, Acting Regional Administrator, Southwest Region, NMFS, NOAA, 501 W. Ocean Blvd., Suite 4200, Long Beach, CA 90802-4132; or faxed to 562-980-4018. Comments will not be accepted if submitted via e-mail or the Internet. Information relevant to this document is available for public review during business hours at the Office of the Regional Administrator, Northwest Region, NMFS.

FOR FURTHER INFORMATION CONTACT: Christopher Wright, 206-526-6140.

SUPPLEMENTARY INFORMATION: The Regional Administrator modified the season for the recreational fishery in the area from the Queets River to Cape Falcon to be open 7 days per week effective Friday, July 26, 2003. On July 18 the Regional Administrator determined that available catch and effort data indicated that increasing the days open was warranted. Modification of recreational fishing days per calendar week are authorized by regulations at 50 CFR 660.409(b)(1)(iii).

In the 2003 annual management measures for ocean salmon fisheries (68 FR 23913, May 6, 2003), NMFS announced the recreational fishery in the area from the Queets River to Leadbetter Point, WA (Westport Area) would open June 22 through the earlier of September 14 or a 83,250 coho subarea quota with a subarea guideline of 40,600 chinook, and the area from Leadbetter Point, WA to Cape Falcon (Columbia River Area) would open June 29 through the earlier of September 30 or a 112,500 coho subarea quota with a subarea guideline of 12,700 chinook. Both the Westport and Columbia subareas were scheduled to open Sunday through Thursday during each calendar week.

On July 18, 2003, the Regional Administrator consulted with representatives of the Pacific Fishery Management Council, Washington Department of Fish and Wildlife, and Oregon Department of Fish and Wildlife by conference call. Information related to catch to date, the chinook and coho catch rate, and effort data indicated that it was unlikely that the coho quotas or the overall recreational chinook quota north of Cape Falcon would be met. As a result, the states recommended, and the Regional Administrator concurred, that both the Westport and Columbia recreational fishery subareas, which include the area from the Queets River to Cape Falcon, be modified to be open 7 days per week effective Friday, July 26, 2003. All other restrictions that apply to this fishery remain in effect as announced in the 2003 annual management measures.

The Regional Administrator determined that the best available information indicated that the catch and effort data, and projections, supported the above inseason action recommended by the states. The states manage the fisheries in state waters adjacent to the areas of the U.S. exclusive economic zone in accordance with this Federal action. As provided by the inseason notice procedures of 50 CFR 660.411, actual notice to fishers of the above described action was given prior to the effective date by telephone hotline number 206-526-6667 and 800-662-9825, and by U.S. Coast Guard Notice to Mariners broadcasts on Channel 16 VHF-FM and 2182 kHz.

This action does not apply to other fisheries that may be operating in other areas.

Classification

The Assistant Administrator for Fisheries, NOAA (AA), finds that good cause exists for this notification to be issued without affording prior notice and opportunity for public comment under 5 U.S.C. 553(b)(B) because such notification would be impracticable. As previously noted, actual notice of this action was provided to fishers through telephone hotline and radio notification. This action complies with the requirements of the annual management measures for ocean salmon fisheries (68 FR 23913, May 6, 2003), the West Coast Salmon Plan, and regulations implementing the West Coast Salmon Plan (50 CFR 660.409 and 660.411). Prior notice and opportunity for public comment was impracticable because NMFS and the state agencies have insufficient time to provide for prior notice and the opportunity for public comment between the time the fishery catch and effort data are collected to determine the extent of the fisheries, and the time the fishery modification must be implemented in order to allow fishers access to the available fish at the time the fish are available. For the same reasons, the AA also finds good cause to waive the 30-day delay in effectiveness required under U.S.C. 553(d)(3). A delay in effectiveness of this action would unnecessarily limit fishers appropriately controlled access to available fish during the scheduled fishing season. The AA also determines that sufficient evidence exists to waive the 30 day delay in the effective date of this action under 5 U.S.C. 553(d)(1) as this action relieves a restriction. It relieves a restriction because it expands the recreational fishery from 5 days per week to 7 days per week, and thus provides fishermen with two additional days per week to fish for salmon.

This action is authorized by 50 CFR 660.409 and 660.411 and is exempt from review under Executive Order 12866.

Authority: 16 U.S.C. 1801 et seq.

Dated: August 12, 2003.
Bruce C. Morehead,
Acting Director, Office of Sustainable Fisheries, National Marine Fisheries Service.

[FR Doc. 03-21045 Filed 8-18-03; 8:45 am]

BILLING CODE 3510-22-S